DEPARTMENT OF LABOR

Bureau of Labor Statistics

Labor Research Advisory Council; Notice of Meetings and Agenda

The Fall meetings of committees of the Labor Research Advisory Council will be held on November 15, 16, and 17, 2004. All of the meetings will be held in the Conference Center of the Postal Square Building (PSB), 2 Massachusetts Avenue, NE., Washington, DC.

The Labor Research Advisory Council and its committees advise the Bureau of Labor Statistics with respect to technical matters associated with the Bureau's programs. Membership consists of union research directors and staff members. The schedule and agenda of the meetings are as follows:

Monday, November 15, 2004

1 p.m.—Committee on Occupational Safety and Health Statistics, Meeting Room 9

1. Results of 2003 Census of Fatal Occupational Injuries, including latest data on foreign-born workers.

2. Progress on 2003 Survey of Occupational Injuries and Illnesses.

3. Time of event data from the 2002 Survey of Occupational Injuries and Illnesses.

4. Status of special survey on employer workplace violence prevention policies.

5. Recent research from the Census of Fatal Occupational Injuries.

6. New business.

7. Discussion of agenda items for the Spring 2005 meeting.

Tuesday, November 16, 2004

9:30 a.m.—Committee on Compensation and Working Conditions, Meeting Room 9

1. Presentation on the estimates from the most recent National Compensation Survey benefits publications.

2. Preliminary results from research into match bias in the Employer Cost for Employee Compensation for union workers.

3. Other topics and new business.

4. Agenda for the Spring 2005 meeting.

1:30 p.m.—Committee on Prices and Living Conditions, Meeting Room 9

1. New initiatives in the Consumer Expenditure Survey.

2. Topics for next meeting.

Wednesday, November 17, 2004

9:30 a.m.—Committee on Employment and Unemployment Statistics Meeting Room 9:

1. Mass Layoffs Statistics data on job loss associated with the movement of work.

2. Business Employment Dynamics data by employer size.

3. Discussion of major changes to the modeling methods used to develop Local Area Unemployment Statistics data.

4. Develop agenda for Spring 2005 meeting.

1:30 p.m.—Committee on Productivity, Technology and Growth, Meeting Room 9

1. Office of Occupational Statistics and Employment Projections' emerging occupations pilot project.

2. The effects of Information Technology investments on productivity growth.

3. Research on preliminary estimates of multifactor productivity growth for the business sector.

4. Topics for the next meeting.

Committee on Foreign Labor Statistics, Meeting Room 9

1. Program update.

2. Country expansion for comparative productivity data.

3. Topics for the next meeting.

The meetings are open to the public. Persons planning to attend these meetings as observers may want to contact Wilhelmina Abner on (202) 691-5970.

Signed at Washington, DC this 20th day of October 2004.
Kathleen P. Utgoff,
Commissioner.

[FR Doc. 04-24427 Filed 11-1-04; 8:45 am]

BILLING CODE 4510-24-P